DEPARTMENT OF TRANSPORTATION

Federal Highway Administration

Notice of Final Federal Agency Actions on Proposed Highway Project in Wisconsin

AGENCY: Federal Highway Administration (FHWA), DOT.

ACTION: Notice of Limitation on Claims for Judicial Review of Actions by FHWA.

SUMMARY: This notice announces actions taken by the FHWA that are final within the meaning of 23 U.S.C. 139(l)(1). The actions relate to a proposed highway project, the WIS 23 Corridor Expansion Project, in Fond du Lac and Sheboygan Counties, Wisconsin. Those actions grant approvals for the project.

DATES: By this notice, the FHWA is advising the public of final agency actions subject to 23 U.S.C. 139(l)(1). Claims seeking judicial review of the Federal agency actions on the highway project will be barred unless the claim is filed on or before September 22, 2014. If this date falls on a Saturday, Sunday, or legal holiday, parties are advised to file their claim no later than the business day preceding this date. If the Federal law that authorizes judicial review of a claim provides a time period of less than 150 days for filing such claim, then that shorter time period still applies.

FOR FURTHER INFORMATION CONTACT: Bethaney Bacher-Gresock, FHWA, 525 Junction Road Suite 8000, Madison, Wisconsin 53717; telephone: (608) 662-2119; email: Bethaney.Bacher-Gresock@dot.gov. The FHWA Wisconsin Division's normal office hours are 7 a.m. to 4 p.m. central time. For the Wisconsin Department of Transportation (WisDOT): Name, Wisconsin Department of Transportation, Northeast Region, 944 Vanderperren Way, Green Bay, Wisconsin 54304; telephone: (920) 920-492-5698; email: Jill.Michaelson@dot.wi.gov. The WisDOT Northeast Region's normal office hours are 7:45 a.m. to 4:30 p.m. central time.

SUPPLEMENTARY INFORMATION: Notice is hereby given that FHWA has taken final agency actions subject to 23 U.S.C. 139(l)(1) by issuing approvals for the following highway project: WIS 23 Corridor Expansion Project in Fond du Lac and Sheboygan Counties, Wisconsin. The purpose of the project is to provide additional highway capacity to serve existing and projected traffic volumes and improve operational efficiency and safety for local and through traffic while avoiding or minimizing environmental effects. The project will widen the existing WIS 23 two-lane roadway and construct a four-lane divided highway with a median approximately 19.1 miles from US 151 to County UU. Project specific actions include acquiring right-of-way, constructing two diamond interchanges and one jug-handle interchange, constructing a roundabout, constructing new travel lanes and frontage roads, modifying local roads, improving two local trails and extending another, installing new bridges and culverts, removing and placing fill, removing vegetation, providing stormwater management measures, and implementing mitigation measures.

The actions by FHWA on this project, and the laws under which such actions were taken, are described in the combined Record of Decision (ROD) and Limited Scope Supplemental Final Environmental Impacts Statement (LS SFEIS) approved on March 17, 2014, and in other documents in the FHWA administrative record. The decisions approved in the combined ROD and LS SFEIS are consistent with the September 27, 2010 ROD. The combined ROD and LS SFEIS supersedes the 2010 ROD where it addresses issues identified as part of the Limited Scope Supplemental EIS pursuant to 23 CFR 771.130. The combined ROD and LS SFEIS was prepared pursuant to Moving Ahead for Progress in the 21st Century Act (MAP-21), Public Law 112-141, § 1319, 126 Stat. 405 (2012).

The combined ROD and LS SFEIS, and other documents in the Administrative Record are available by contacting FHWA or WisDOT at the addresses provided above. The combined ROD and LS SFEIS can be viewed and downloaded from the project Web site at http://www.dot.wisconsin.gov/projects/neregion/23/index.htm or viewed at the Fond du Lac or Plymouth public libraries.

This notice applies to all Federal agency decisions as of the issuance date of this notice and all laws under which such actions were taken, including but not limited to:

1. General: National Environmental Policy Act (NEPA) [42 U.S.C. 4321- 4351]; Federal-Aid Highway Act [23 U.S.C. 109, 23 U.S.C. 128, and U.S.C. 139].

2. Air: Clean Air Act [42 U.S.C. 7401- 7671(q)].

3. Land: Section 4(f) of the Department of Transportation Act of 1966 [23 U.S.C. 138 and 49 U.S.C. 303].

5. Historic and Cultural Resources: Section 106 of the National Historic Preservation Act of 1966, as amended [16 U.S.C. 470(f) et seq.].

6. Social and Economic: Uniform Relocation Assistance and Real Property Acquisition Act of 1970 [42 U.S.C. 4601 et seq. as amended by the Uniform Relocation Act Amendments of 1987 [Pub. L. 100-17].

7. Wetlands and Water Resources: Clean Water Act (Section 404, Section 401, Section 319) [33 U.S.C. 1251- 1376].

(Catalog of Federal Domestic Assistance Program Number 20.205, Highway Planning and Construction. The regulations implementing Executive Order 12372 regarding intergovernmental consultation on Federal programs and activities apply to this program.)

Authority: 23 U.S.C. 139(l)(1), as amended by Moving Ahead for Progress in the 21st Century Act (MAP-21), Pub. L. 112-141, § 1308, 126 Stat. 405(2012).

Issued on: April 14, 2014.
R. Kirk Fredrichs,
Assistant Division Administrator, FHWA Wisconsin Division, Madison, Wisconsin.

[FR Doc. 2014-09254 Filed 4-24-14; 8:45 am]

BILLING CODE 4910-RY-P